FEDERAL FINANCIAL INSTITUTIONS EXAMINATION COUNCIL

[Docket No. AS23-07]

Appraisal Subcommittee; Notice of Meeting

AGENCY: Appraisal Subcommittee of the Federal Financial Institutions Examination Council.

ACTION: Notice of special meeting.

Description: In accordance with section 1104(b) of title XI of the Financial Institutions Reform, Recovery, and Enforcement Act of 1989, as amended, notice is hereby given that the Appraisal Subcommittee (ASC) met for a special meeting on this date.

Location: Virtual meeting via Webex.

Date: May 30, 2023.

Time: 5:30 p.m. ET.

Action and Discussion Item

Supplemental Budget Authority Request

The ASC convened a special meeting to vote on a budget amendment in the amount of $910,500 to the ASC's fiscal year 2023 budget. The vote passed 6-0. FDIC was not present at the meeting.

James R. Park,
Executive Director.

[FR Doc. 2023-12533 Filed 6-12-23; 8:45 am]

BILLING CODE 6700-01-P